ENVIRONMENTAL PROTECTION AGENCY

40 CFR Part 52

[EPA-R01-OAR-2014-0243; A-1-FRL-9918-00-Region 1]

Approval and Promulgation of Air Quality Implementation Plans; Maine; Volatile Organic Compound Regulations

AGENCY: Environmental Protection Agency.

ACTION: Final rule.

SUMMARY: The Environmental Protection Agency (EPA) is approving four State Implementation Plan (SIP) revisions submitted by the State of Maine. These revisions establish Reasonably Available Control Technology (RACT) for two categories of volatile organic compound (VOC) sources and revise two existing VOC RACT regulations previously approved into Maine's SIP. The intended effect of this action is to approve these requirements into the Maine SIP. This action is being taken under the Clean Air Act (CAA).

DATES: This rule is effective on December 5, 2014.

ADDRESSES: EPA has established a docket for this action under Docket Identification No. EPA-R01-OAR-2014-0243. All documents in the docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

Copies of the documents relevant to this action are also available for public inspection during normal business hours, by appointment at the Bureau of Air Quality Control, Department of Environmental Protection, First Floor of the Tyson Building, Augusta Mental Health Institute Complex, Augusta, ME 04333-0017.

FOR FURTHER INFORMATION CONTACT: Anne K. McWilliams, Air Quality Planning Unit, U.S. Environmental Protection Agency, New England Regional Office, 5 Post Office Square—Suite 100, (Mail code OEP05-2), Boston, MA 02109-3912, telephone (617) 918-1697, facsimile (617) 918-0697, email mcwilliams.anne@epa.gov.

SUPPLEMENTARY INFORMATION: Throughout this document whenever “we,” “us,” or “our” is used, we mean EPA.

Organization of this document. The following outline is provided to aid in locating information in this preamble.

I. Background and Purpose

II. Final Action

III. Statutory and Executive Order Reviews

I. Background and Purpose

On August 8, 2014 (79 FR 46384), EPA published a Notice of Proposed Rulemaking (NPR) for the State of Maine. In that action, EPA proposed approval of Maine's Chapter 159, Control of Volatile Organic Compounds from Adhesives and Sealants, and Chapter 154, Control of Volatile Organic Compounds from Flexible Package Printing, submitted to EPA as a SIP revision on June 20, 2014 and October 26, 2011, respectively. These regulations address RACT for the named VOC source categories consistent with the relevant Control Technique Guidelines (CTGs) issued by EPA.¹ In addition, EPA proposed approval of revisions to Maine's revised Chapter 111, Petroleum Liquid Storage Vapor Controls, and Chapter 112, Bulk Terminal Petroleum Liquid Transfer Requirements which further reduce VOC emissions from petroleum liquid storage tanks and bulk terminals, respectively. Maine's revised Chapters 111 and 112 were submitted to EPA as a SIP revision on October 13, 1999, and February 26, 1998, respectively.

¹ EPA's CTGs are posted at http://www.epa.gov/aiqulaity/ozonepollution/SIPToolkit/ctgs.html.

A detailed discussion of Maine's VOC SIP revisions and EPA's rationale for proposing approval of these SIP revisions was provided in the NPR and will not be restated here. No public comments were received on the NPR.

II. Final Action

EPA is approving, and incorporating into the Maine SIP, Maine's Chapter 159, Control of Volatile Organic Compounds from Adhesives and Sealants, and Chapter 154, Control of Volatile Organic Compounds from Flexible Package Printing, as meeting RACT for the miscellaneous industrial adhesives and flexible package printing CTG categories, respectively. In addition, EPA is approving, and incorporating into the Maine SIP, Maine's revised Chapter 111, Petroleum Liquid Storage Vapor Controls, and revised Chapter 112, Bulk Terminal Petroleum Liquid Transfer Requirements, both of which are consistent with CAA requirements and with EPA guidance for reducing VOC emissions from petroleum liquid storage facilities and from bulk terminals, respectively.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 5, 2015. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 27, 2014.
H. Curtis Spalding,
Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart U—Maine

2. In § 52.1020, the table in paragraph (c) entitled “EPA-Approved Maine Regulations” is amended by revising entries for Chapters 111 and 112 and adding entries in numerical order for Chapters 154 and 159 to read as follows:

§ 52.1020 Identification of plan.

* * * * *

(c) EPA approved regulations.

EPA-Approved Maine Regulations
State citation | Title/subject | State effective date | EPA approval date and citation ¹ | Explanations
* * * * * * *
Chapter 111 | Petroleum Liquid Storage Vapor Control | 9/29/1999 | 11/5/2014 [Insert Federal Register citation]
Chapter 112 | Bulk Terminal Petroleum Liquid Transfer Requirements | 2/22/1998 | 11/5/2014 [Insert Federal Register citation]
* * * * * * *
Chapter 154 | Control of Volatile Organic Compounds from Flexible Package Printing | 7/20/2010 | 11/5/2014 [Insert Federal Register citation]
* * * * * * *
Chapter 159 | Control of Volatile Organic Compounds from Adhesives and Sealants | 6/2/2014 | 11/5/2014 [Insert Federal Register citation]
* * * * * * *
¹ In order to determine the EPA effective date for a specific provision listed in this table, consult the Federal Register notice cited in this column for the particular provision.

* * * * *

[FR Doc. 2014-26174 Filed 11-4-14; 8:45 am]

BILLING CODE 6560-50-P